DEPARTMENT OF ENERGY

Federal Energy Regulatory Commission

[Project No. 2629-014]

Village of Morrisville, Vermont; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: Major License.

b. Project No.: 2629-014.

c. Date Filed: April 25, 2013.

d. Applicant: Village of Morrisville, Vermont (Morrisville).

e. Name of Project: Morrisville Hydroelectric Project.

f. Location: On the Green River, Elmore Pond Brook, and Lamoille River, in Lamoille County, Vermont. The project does not affect federal lands.

g. Filed Pursuant to: Federal Power Act, 16 U.S.C. 791(a)-825(r).

h. Applicant Contact: Craig Myotte, Village of Morrisville, Water & Light Department, P.O. Box 460—857 Elmore Street, Morrisville, Vermont, 05661-0460; (802) 888-6521 or cmyotte@mwlvt.com.

i. FERC Contact: Steve Kartalia, (202) 502-6131 or stephen.kartalia@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2629-014.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Project Description:

The existing Morrisville Hydroelectric Project consists of four developments with a total installed capacity of 4,990 kilowatts (kW). The project's average annual generation is 9,032,221 kilowatt-hours. The power generated by the Morrisville Project is used by Morrisville to meet the power needs of its regional retail customers within the Village of Morrisville and surrounding communities.

Green River Development

The existing Green River Development is located on the Green River and consists of: (1) A 360-foot-long, 105-foot-high concrete arch dam that includes, near its center, a 60-foot-long ungated spillway with a crest elevation of 1,220 feet above mean sea level (msl); (2) a 45-foot-long, 15-foot-high concrete gravity weir that creates a 180-foot-long, 11-foot-deep stilling pool downstream of the concrete arch dam; (3) a 200-foot-long, 16-foot-high earthen embankment with 2-foot-high wooden wave barriers approximately 1.25 miles southeast of the concrete arch dam; (4) a 690-acre impoundment with a storage capacity of 17,400-acre-feet and a normal maximum elevation of 1,220 feet msl; (5) a 16-foot-long, 12-foot-high gated intake structure; (6) a 22-foot-long, 16-foot-wide intake-valve house and a 14-foot-long, 13-foot-wide outlet-valve house; (7) a 116-foot-long penstock, that includes a 6-foot-diameter, 94.5-foot-long buried, steel section that bifurcates into two 3-foot-diameter, 21.5-foot-long steel sections; (8) a 32-foot-long, 37-foot-wide concrete powerhouse containing two 945-kW turbine-generator units for a total installed capacity of 1,890 kW; (9) a 14.5-foot-long, concrete tailrace; (10) a 5-mile-long, 34.5-kilovolt (kV) transmission line connecting the powerhouse to the regional grid; and (11) appurtenant facilities.

The Green River Development bypasses approximately 180 feet of the Green River, including the stilling pool.

Lake Elmore Development

The existing Lake Elmore Development is located on Elmore Pond Brook and consists of: (1) A 26-foot-long, 10-foot-high concrete gravity dam and spillway with a crest elevation of 1,139 feet msl; (2) a 300-acre impoundment (Lake Elmore) with a 1,000-acre-foot storage capacity and a normal maximum water surface elevation of 1,139 feet msl; (3) a 8.5-foot-long, 7.5-foot-wide gatehouse; (4) a 8.3-foot-long, 3.5-foot-high gated intake structure; (5) a 2.5-foot-long concrete-lined tailrace; and (6) appurtenant facilities.

Morrisville Development

The existing Morrisville Development is located on the Lamoille River and consists of: (1) A 384-foot-long, 37-foot-high concrete gravity dam comprised of a 138-foot-long concrete retaining wall, a 30-foot-long intake and gatehouse section, and a 216-foot-long spillway with two 108-foot-long, 4-foot-high Obermeyer inflatable crest gates and a crest elevation of 627.79 feet msl; (2) a 141-foot-long, 8-foot-high concrete wall approximately 260 feet northwest of the dam that includes a 60-foot-long overflow section (back spillway) with 2-foot-high wooden flashboards ; (3) a 15-acre impoundment with a 72-acre-foot storage capacity and a normal maximum water surface elevation of 631.79 feet msl; (4) a 28-foot-long, 36-foot-wide gatehouse; (5) a 30-foot-long, 16-foot-high gated intake structure; (6) one 7-foot-diameter, 150-foot-long buried steel penstock and one 10-foot-diameter, 150-foot-long buried, steel penstock; (7) a 54.5-foot-long, 30.5-foot-wide concrete-brick powerhouse containing a 600-kW turbine-generator unit and a 1,200-kW turbine-generator unit for a total installed capacity of 1,800 kW; (8) one 17.5-foot-long concrete-lined tailrace and one 14.0-foot-long concrete-lined tailrace; (9) a 435-foot-long, 34.5-kV transmission line connecting the powerhouse to the regional grid; and (10) appurtenant facilities.

The Morrisville Development bypasses approximately 380 feet of the Lamoille River.

Cadys Falls Development

The existing Cadys Falls Development is located on the Lamoille River approximately 1 mile downstream of the Morrisville Development and consists of: (1) A 364-foot-long, 41-foot-high concrete gravity dam comprised of a 23-foot-long embankment section, a 186-foot-long spillway section with 3.5-foot-high wooden flashboards and a crest elevation of 576.89 feet msl, a 60-foot-long intake and gatehouse section, and a 95-foot-long non-overflow section; (2) a 150-acre impoundment (Lake Lamoille) with a 72-acre-foot storage capacity and a normal maximum water surface elevation of 580.39 feet msl; (3) a 29-foot-long, 40-foot-wide gatehouse; (4) an 18.0-foot-long, 9.2-foot-high gated intake structure; (5) a buried, steel penstock that includes a 7-foot-diameter, 1,110-foot-long section leading to a 35.6-foot-high, 29.7-foot-diameter concrete surge tank and bifurcating into a 90-foot-long, 8-foot-diameter section and a 30-foot-long, 9-foot-diameter section; (6) a 96-foot-long, 46-foot-wide concrete-brick powerhouse containing a 600-kW turbine-generator unit and a 700-kW turbine-generator unit for a total installed capacity of 1,300 kW; (7) a 12-foot-long concrete-lined tailrace; (8) a 150-foot-long, 34.5-kV transmission line connecting the powerhouse to the regional grid; and (9) appurtenant facilities.

The Cadys Falls Development bypasses approximately 1,690 feet of the Lamoille River.

The Green River and Lake Elmore developments are operated in seasonal store and release mode and the Morrisville and Cadys Falls developments are operated in run-of-river mode. The existing license requires instantaneous minimum flows of 5.5 cubic feet per second (cfs) in the tailrace of the Green River Development; 135 cfs and 12 cfs in the tailrace and bypassed reach of the Morrisville Development, respectively; and 150 cfs in the tailrace of the Cadys Falls Development. Morrisville proposes to maintain existing project operations and provide additional minimum flows of 4 cfs over the back spillway at the Morrisville Development and 12 cfs in the bypassed reach at the Cadys Falls Development. Morrisville also proposes to remove the Lake Elmore Development from the project and remove a 0.4-acre parcel of property at the Morrisville Development from the project boundary.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following preliminary Hydro Licensing Schedule. Revisions to the schedule may be made as appropriate.

Milestone | Target date
Filing of recommendations, preliminary terms and conditions, and fishway prescriptions | January 2014.
Commission issues EA | May 2014.
Comments on EA | June 2014.
Modified terms and conditions | July 2014.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: November 5, 2013.
Kimberly D. Bose,
Secretary.

[FR Doc. 2013-27047 Filed 11-12-13; 8:45 am]

BILLING CODE 6717-01-P